DEPARTMENT OF TRANSPORTATION

Federal Aviation Administration

RTCA, Inc.; Government/Industry Certification Steering Committee

Pursuant to section 10(a)(2) of the Federal Advisory Committee Act (Pub. L. 92-463, 5 U.S.C., Appendix 2), notice is hereby given for RTCA Government/Industry Certification Steering Committee meeting to be held March 17, 2000, from 10:00 a.m. to 12:00 p.m. The meeting will be held at Federal Aviation Administration (FAA), 800 Independence Avenue, SW, Washington, DC 20591, in the Bessie Coleman Conference Center, Room 2AB (second floor).

Formation of the Certification Steering Committee is a follow-on initiative recommended in RTCA's Report of Task Force 4, Certification. The concept of the Certification Steering Committee is supported by the FAA and will provide a public advisory forum for developing consensus-based recommendations for implementing the opportunities identified by Task Force 4. The Task Force completed its work in 1999 and published its findings in the “Final Report of RTCA TASK FORCE 4, Certification.” This report serves as a starting point for the Certification Steering Committee.

The Certification Steering Committee is Co-Chaired by Mr. Tom McSweeny, FAA Associate Administrator for Regulation and Certification and Mr. Clay Jones, President, Rockwell Collins. The Certification Steering Committee will function as a Federal Advisory Committee with all meetings open to the public.

The agenda will include: (1) Welcome and Introductory Remarks: (a) RTCA Certification Activity Structure and Procedures; (b) Review Steering Committee Charter; (2) Background: (c) Task Force Four (TF4) Recommendations; (3) Certification Select Committee: (d) Membership; (e) Terms of Reference and Proposal for Implementing TF4 Recommendations; (f) Working Group Organization and Work Plans; (g) Near Term Certification Improvement Goals; (h) Deliverables and Milestones; (4) Other Business; (5) Date and Location of Next Meeting; (6) Closing.

Attendance is open to the interested public but limited to space availability. With the approval of the chairman, members of the public may present oral statements at the meeting. Persons wishing to present statements or obtain information should contact the RTCA Secretariat, 1140 Connecticut Avenue, NW, Suite 1020, Washington, DC 20036; (202) 833-9339 (phone); (202) 833-9434 (fax); or http://www.rtca.org (web site). Members of the public may present a written statement to the committee at any time.

Issued in Washington, DC, on February 28, 2000.
Janice L. Peters,
Designated Official.

[FR Doc. 00-5356 Filed 3-3-00; 8:45 am]

BILLING CODE 4910-13-M